DEPARTMENT OF THE INTERIOR

Bureau of Land Management

[LLES003420.L14300000.EU0000;WIES-057676]

Notice of Intent To Amend the 1985 Wisconsin Resource Management Plan and Prepare an Associated Environmental Analysis and Notice of Realty Action for the Direct (Non-Competitive) Sale of Reversionary Interests, Oneida County, Wisconsin

AGENCY: Bureau of Land Management, Interior.

ACTION: Notice of Intent and Notice of Realty Action.

SUMMARY: In compliance with the Federal Land Policy and Management Act (FLPMA) of 1976, as amended, the Bureau of Land Management (BLM) Northeastern States Field Office (NSFO) intends to amend the 1985 Wisconsin Resource Management Plan (RMP) and prepare an associated Environmental Assessment (EA) in accordance with the National Environmental Policy Act of 1969, as amended, to consider the direct sale of reversionary interests in approximately 0.81 acres of lands patented under provisions of the Recreation and Public Purposes (R&PP) Act, as amended, to the Unity Point Improvement Association, a nonprofit organization. By this notice, the BLM NSFO is announcing the beginning of the scoping process to solicit public comments and identify issues.

DATES: Comments on issues for the RMP amendment may be submitted in writing until August 19, 2013. The date(s) and location(s) of any scoping meetings will be announced at least 15 days in advance through the local news media, newspapers and the BLM Web site at: http://www.blm.gov/es/st/en.html. In order to be included in the analysis, all comments must be received prior to the close of the 45-day scoping period or 30 days after the last public meeting, whichever is later. The NSFO will provide additional opportunities for public participation as appropriate.

This notice also initiates the public comment period for the proposed sale of reversionary interest in lands patented to the Unity Point Improvement Association pending approval of the plan amendment. Written comments regarding the proposed sale must be received by the BLM on or before August 19, 2013. If the proposed sale is determined suitable for disposal, the reversionary interest will not be conveyed until at least September 3, 2013.

ADDRESSES: You may submit comments on issues and planning criteria related to the 1985 Wisconsin RMP Amendment and/or the proposed sale by any of the following methods:

• Web site: http://on.doi.gov/J10kUe.

• Email: cgrundma@blm.gov.

• Fax: 414-297-4409.

• Mail: BLM Northeastern States Field Office, 626 East Wisconsin Avenue, Suite 200, Milwaukee, Wisconsin 53202-4617.

Documents pertinent to this proposal may be examined at the BLM Northeastern States Field Office, 626 East Wisconsin Avenue, Suite 200, Milwaukee, WI 53202-4617.

FOR FURTHER INFORMATION CONTACT: Carol Grundman, Realty Specialist, telephone 414-297-4447; address BLM Northeastern States Field Office, 626 East Wisconsin Avenue, Suite 200, Milwaukee, Wisconsin 53202-4617; email cgrundma@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM NSFO, Milwaukee, Wisconsin, intends to prepare an RMP amendment with an associated EA for the public lands within the State of Wisconsin, announces the beginning of the scoping process, and seeks public input on issues and planning criteria. The two parcels of land with reversionary interest is located in Oneida County, Wisconsin, and encompasses approximately 0.81 acres of public land. The purpose of the public scoping process is to determine relevant issues that will influence the scope of the environmental analysis, including alternatives, and guide the planning process. Preliminary issues for the plan amendment area have been identified by BLM personnel; Federal, State, and local agencies; and other stakeholders. The issues include: Impact of the proposed amendment on land use values, ownership, and potential development; impact of the proposed amendment on cultural resources, such as archeological sites and historic trails; and impact of the proposed amendment on wildlife. Preliminary planning criteria include: BLM planning regulations at 43 CFR 1600; Section 203 of FLPMA sale criteria (43 U.S.C. 1713) and regulations found at 43 CFR 2710; and BLM policy and other applicable laws and regulations.

The BLM will determine as a result of the proposed plan amendment and associated EA whether the reversionary interest in the lands are suitable for disposal, then the BLM NESO, Milwaukee, Wisconsin, intends to convey the reversionary interests in the lands patented to the Unity Point Improvement Association, Oneida County, Wisconsin, to allow and achieve the highest and best use of the lands without the threat of a reversion of title for breach of patent conditions. The lands are not needed for Federal purposes and the United States has no present interest in the properties other than the reservation of the mineral interests to the United States and whether a direct sale of the reversionary interest is appropriate under Section 203 of FLPMA. The proposed action is consistent with Federal laws, State and local planning and zoning ordinances. If it is determined through the planning process the lands are suitable, the reversionary interests in the lands will be offered by direct sale to the Unity Point Improvement Association for the appraised fair market value of $78,000 at least October 3, 2013.

Pursuant to the terms and conditions of the original patents dated July 25, 1966, and October 5, 1972, the United States retains and continues to hold reversionary interests in the following lands:

4th Principal Meridian

T. 37 N., R. 8 E.,

Sec. 33, lots 6 and 13.

The area described contains 0.81 acres per the official survey, approved April 23, 1928.

The lands were conveyed to the Unity Point Improvement Association for the purpose of providing public recreation and lake access, but this use is no longer needed because the State of Wisconsin developed facilities for recreation and lake access in the immediate area. Development of the lands for recreation have been limited by the small area and location of the parcels on a densely subdivided narrow peninsula with inadequate access along a private single lane dirt road. The BLM received a request from the Unity Point Improvement Association to purchase the reversionary interests held by the United States to allow the lands to be used for purposes otherwise restricted by the reversionary clause in the patents under the R&PP authority. The sale of reversionary interests will eliminate management oversight for lands that have been underutilized and undeveloped for public recreation as intended by the terms and conditions of the R&PP Act conveyance.

If the plan amendment is approved, the reversionary interests in the lands will be offered by direct sale procedures in accordance with regulations at 43 CFR 2711.3-3(a)(1)(3) and (4). The direct sale of reversionary interest to Unity Point Improvement Association would be appropriate to protect the landowner from economic loss and retain sale and release of the reversionary interests in the 0.81 acres will be made in accordance with Section 203 of FLPMA, applicable regulations of the Secretary of the Interior, and the following:

1. A condition that the conveyance be subject to all valid existing rights of record;

2. An appropriate indemnification clause protecting the United States from claims arising out of the patentee's use, occupancy, or operations on the patented lands;

3. The terms and conditions of the United States patent 1239859 and patent 1242505 reserving mineral deposits in the lands, together with the right to mine and remove the same, under applicable laws and such regulations to be established by the Secretary of the Interior;

4. No representation, warranty, or covenant of any kind, express or implied, is given or made by the United States as to access to or from any parcel of land, the title, whether or to what extent the lands may be developed, physical condition, present or potential uses, or any other circumstance or condition; and

5. Additional terms and conditions that the authorized officer deems appropriate to ensure proper land use and protection of the public interest.

Detailed information concerning the proposed sale, including the appraisal, planning and environmental documents, are available for review at the NSFO at the address listed in the ADDRESSES section above.

You may submit comments on issues and planning criteria and/or the proposed direct sale in writing to the BLM at any public scoping meeting, or you may submit them to the BLM using one of the methods listed in the ADDRESSES section above. To be most helpful, you should submit comments by the close of the 45-day scoping period or within 30 days after the last public meeting, whichever is later. The minutes and list of attendees for each scoping meeting will be available to the public and open for 30 days after the meeting to any participant who wishes to clarify the views he or she expressed.

Before including your address, phone number, email address, or other personal identifying information in your comment, you should be aware that your entire comment—including your personal identifying information—may be made publicly available at any time. While you can ask us in your comment to withhold your personal identifying information from public review, we cannot guarantee that we will be able to do so.

The BLM will use an interdisciplinary approach to develop the plan amendment and associated EA in order to consider the variety of resource issues and concerns identified. Specialists with expertise in the following disciplines will be involved in the planning process: Archaeology, wildlife and fisheries, and lands and realty.

Any adverse written comments received regarding the proposed sale will be reviewed by the BLM State Director, Eastern States, who may sustain, vacate, or modify the realty action. In the absence of adverse comments and with the approval of the amendment, the proposed realty action will become the final determination of the Department of the Interior.

Authority: 40 CFR 1501.7; 43 CFR 1610.2; 2711.1-2(a)(c).

John G. Lyon,
State Director, Eastern States.

[FR Doc. 2013-16130 Filed 7-3-13; 8:45 am]

BILLING CODE 4310-GJ-P